DEPARTMENT OF DEFENSE

Office of the Secretary

[Docket ID: DoD-2023-OS-0017]

Proposed Collection; Comment Request

AGENCY: Office of the Under Secretary of Defense (Comptroller)/Chief Financial Officer, Department of Defense (DoD).

ACTION: 60-Day information collection notice.

SUMMARY: In compliance with the Paperwork Reduction Act of 1995, the Defense Finance and Accounting Services (DFAS), announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by May 1, 2023.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Department of Defense, Washington Headquarters Services, ATTN: Executive Services Directorate, Directives Division, 4800 Mark Center Drive, Suite 03F09-09, Alexandria, VA 22350-3100, Angela Duncan, 571-372-7574.

SUPPLEMENTARY INFORMATION:

Title; Associated Form; and OMB Number: Child Annuitant's School Certification; DD Form 2788; OMB Control Number 0730-0001.

Needs and Uses: Child annuitants, between the ages of 18 and 22 years of age, must provide evidence of intent to continue study or training at a recognized educational institution. The certificate is required for the school semester or other period in which the school year is divided. Without this certification, funds cannot be released to annuitant/payee.

Affected Public: Individuals or households.

Annual Burden Hours: 3,600.

Number of Respondents: 7,200.

Responses per Respondent: 1.

Annual Responses: 7,200.

Average Burden per Response: 30 Minutes.

Frequency: Each semester or other period in which the school year is divided.

The Child Annuitant's School Certification (DD Form 2788) is generated by the Defense Retired and Annuitant System (DRAS). DRAS identifies the child annuitant prior to their 18th birthday and sends initial mailing. Annuity Pay System downloads child annuitant information into DRAS when retiree is deceased. After the initial mailing, the child annuitant (18 and over) or payee receives the form and flex letter annually. Each semester or other period in which the school year is divided, thereafter, the respondent is required to complete and return via mail, fax or email to the DFAS as indicated on the form/letter. The child will certify as to his or her intent for future enrollment. DFAS reviews the completed form/letter and uses the information to determine eligibility and release funds. Respondents are annuitants between the age of 18 and 22 and payees for the children under age 18.

Dated: February 23, 2023.
Aaron T. Siegel,
Alternate OSD Federal Register Liaison Officer, Department of Defense.

[FR Doc. 2023-04096 Filed 2-27-23; 8:45 am]

BILLING CODE 5001-06-P